DEPARTMENT OF ENERGY

Federal Energy Regulatory Commission

Combined Notice of Filings #1

Take notice that the Commission received the following electric corporate filings:

Docket Numbers: EC14-102-000.

Applicants: Black Hills Wyoming, LLC.

Description: Application for Authorization under Section 203 of the Federal Power Act of Black Hills Wyoming, LLC.

Filed Date: 6/12/14.

Accession Number: 20140612-5200.

Comments Due: 5 p.m. ET 7/3/14.

Take notice that the Commission received the following electric rate filings:

Docket Numbers: ER13-1872-002.

Applicants: Southwest Power Pool, Inc.

Description: 2562 Kansas Municipal Energy Agency NITSA and NOA Refund Report to be effective N/A.

Filed Date: 6/12/14.

Accession Number: 20140612-5162.

Comments Due: 5 p.m. ET 7/3/14.

Docket Numbers: ER14-2167-000.

Applicants: Triton Power Michigan LLC.

Description: Notice of cancellation to be effective 6/30/2014.

Filed Date: 6/12/14.

Accession Number: 20140612-5161.

Comments Due: 5 p.m. ET 7/3/14.

Docket Numbers: ER14-2168-000.

Applicants: Wolverine Power Supply Cooperative, Inc.

Description: Normal Gray IFA to be effective 6/13/2014.

Filed Date: 6/13/14.

Accession Number: 20140613-5023.

Comments Due: 5 p.m. ET 7/7/14.

Docket Numbers: ER14-2169-000.

Applicants: Lilabell Energy LLC.

Description: Lilabell Energy, LLC FERC Electric Tariff to be effective 6/30/2014.

Filed Date: 6/13/14.

Accession Number: 20140613-5034.

Comments Due: 5 p.m. ET 7/7/14.

Docket Numbers: ER14-2170-000.

Applicants: Duke Energy Progress, Inc.

Description: Cancellation of Rate Schedule No. 194 to be effective 6/12/2014.

Filed Date: 6/13/14.

Accession Number: 20140613-5044.

Comments Due: 5 p.m. ET 7/7/14.

Docket Numbers: ER14-2171-000.

Applicants: Midcontinent Independent System Operator, Inc.

Description: 2014-06-13_SA 2670 GRE-NSP T-T IA to be effective 6/14/2014.

Filed Date: 6/13/14.

Accession Number: 20140613-5046.

Comments Due: 5 p.m. ET 7/7/14.

Docket Numbers: ER14-2172-000.

Applicants: Midcontinent Independent System Operator, Inc.

Description: 2014-06-13_SA 2671 Crystal Lake-ITC MPFCA to be effective 6/14/2014.

Filed Date: 6/13/14.

Accession Number: 20140613-5047.

Comments Due: 5 p.m. ET 7/7/14.

Docket Numbers: ER14-2173-000.

Applicants: Entergy Power, LLC.

Description: EPL Cancellation of Confirmations 6-13-2014 to be effective 11/8/2013.

Filed Date: 6/13/14.

Accession Number: 20140613-5052.

Comments Due: 5 p.m. ET 7/7/14.

Docket Numbers: ER14-2174-000.

Applicants: Entergy Power, LLC.

Description: EPL Cancellation of Tariff No 2 6-13-2014 to be effective 12/19/2013.

Filed Date: 6/13/14.

Accession Number: 20140613-5053.

Comments Due: 5 p.m. ET 7/7/14.

Docket Numbers: ER14-2175-000.

Applicants: EAM Nelson Holding, LLC.

Description: EAMN Cancellation of Master PPA 6-13-2014 to be effective 12/19/2013.

Filed Date: 6/13/14.

Accession Number: 20140613-5055.

Comments Due: 5 p.m. ET 7/7/14.

Docket Numbers: ER14-2176-000.

Applicants: Midcontinent Independent System Operator, Inc.

Description: 2014-06-13_SA 6500 Escanaba SSR Renewal to be effective 6/15/2014.

Filed Date: 6/13/14.

Accession Number: 20140613-5056.

Comments Due: 5 p.m. ET 7/7/14.

Take notice that the Commission received the following electric securities filings:

Docket Numbers: ES14-44-000.

Applicants: El Paso Electric Company.

Description: Application of El Paso Electric Company under Section 204 of the Federal Power Act.

Filed Date: 6/12/14.

Accession Number: 20140612-5184.

Comments Due: 5 p.m. ET 7/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2014.
Kimberly D. Bose,
Secretary.

[FR Doc. 2014-14467 Filed 6-19-14; 8:45 am]

BILLING CODE 6717-01-P